DEPARTMENT OF COMMERCE

Submission for OMB Review; Comment Request

DOC will submit to the Office of Management and Budget (OMB) for clearance the following proposal for collection of information under the provisions of the Paperwork Reduction Act (44 U.S.C. Chapter 35).

Agency: U.S. Census Bureau.

Title: Construction Progress Reporting Surveys.

Form Number(s): C-700, Private Construction Projects; C-700 (SL), State and Local Governments Projects; C-700 (R), Multi-Family Residential Projects.

Agency Approval Number: 0607-0153.

Type of Request: Extension of a currently approved collection.

Burden: 50,700 hours.

Number of Respondents: 19,500.

Average Hours Per Response: 15 minutes for mailed responses; 5 minutes for telephone responses.

Needs and Uses: The U.S. Census Bureau is requesting an extension of a currently approved collection for forms C-700, Private Construction Projects; C-700 (R), Multi-Family Residential Projects; and C-700 (SL), State and Local Governments Projects. These forms are used to conduct the Construction Progress Reporting Surveys (CPRS) to collect information on the dollar value of construction put in place on building projects under construction by private companies or individuals, private multi-family residential buildings, and on building projects under construction by state and local governments. The Census Bureau uses the information collected on these forms to publish estimates of the monthly value of construction put in place: (1) For nonresidential projects owned by private companies or individuals; (2) for projects owned by state and local agencies; and (3) for multi-family residential building projects owned by private companies or individuals. Statistics from CPRS become part of the monthly “Value of Construction Put in Place” series that is used extensively by the Federal Government in making policy decisions and become part of the gross domestic product (GDP). The private sector uses the statistics for market analysis and other research. Construction now accounts for more than eight percent of GDP.

The C-700 is used to collect data on industrial and manufacturing plants, office buildings, retail buildings, service establishments, religious buildings, schools, universities, hospitals, clinics, and miscellaneous buildings. The C-700 (SL) is used to collect data on public schools, courthouses, prisons, hospitals, civic centers, highways, bridges, sewer systems, and water systems. The C-700 (R) is used to collect data on residential buildings and apartment projects with two or more housing units. Published statistics are used by all levels of government to evaluate economic policy, to measure progress toward national goals, to make policy decisions, and to formulate legislation. For example, Bureau of Economic Analysis (BEA) staff use data to develop the construction components of gross private domestic investment in the gross domestic product. The Federal Reserve Board and the Department of the Treasury use the value in place data to predict the gross domestic product, which is presented to the Board of Governors and has an impact on monetary policy. Private businesses and trade organizations use the data for estimating the demand for building materials and to schedule production, distribution and sales efforts.

Frequency: Monthly.

Respondent's Obligation: Voluntary.

Legal Authority: Title 13 U.S.C. 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: February 27, 2007.
Gwellnar Banks,
Management Analyst, Office of the Chief Information Officer.

[FR Doc. E7-3732 Filed 3-2-07; 8:45 am]

BILLING CODE 3510-07-P